DEPARTMENT OF COMMERCE

National Oceanic and Atmospheric Administration

Proposed Information Collection; Comment Request; Coastal Zone Management Program Administration

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 23, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information should be directed to Allison Castellan, (301) 713-3155 ext. 125 or Allison.Castellan@noaa.gov.

SUPPLEMENTARY INFORMATION:

I. Abstract

This request is for revision and extension of a currently approved information collection.

In 1972, in response to intense pressure on United States (U.S.) coastal resources, and because of the importance of U.S. coastal areas, the U.S. Congress passed the Coastal Zone Management Act of 1972 (CZMA), 16 U.S.C. 1451 et seq. The CZMA authorized a federal program to encourage coastal states and territories to develop comprehensive coastal management programs. The CZMA has been reauthorized on several occasions, most recently with the enactment of the Coastal Zone Protection Act of 1996. (CZMA as amended). The program is administered by the Secretary of Commerce, who in turn has delegated this responsibility to the National Oceanic and Atmospheric Administration's (NOAA) National Ocean Services (NOS).

The coastal zone management grants provide funds to states and territories to: Implement federally-approved coastal management programs; complete information for the Coastal Zone Management Program (CZMP) Performance Management System; develop program assessments multi-year strategies to enhance their programs within priority areas under Section 309 of the CZMA; submit documentation as described in the CZMA Section 306a on the approved coastal zone management programs; submit requests to update their federally-approved programs through amendments or program changes; and develop and submit state coastal nonpoint pollution control programs (CNP) as required under Section 6217 of the Coastal Zone Act Reauthorization Amendments.

Revision: The CZMP Performance Measurement System has been revised to reduce the number of measures on which state programs are required to report, resulting in an overall decrease in reporting burden for the performance measurement system. The assessment process under CZMA Section 309 has also been refined to rely more on readily available existing data and allow states to more quickly focus their assessments on high-priority enhancement areas.

II. Method of Collection

Respondents have a choice of electronic or paper formats for submitting program documents, assessment and strategy documents, and other required materials. Grant applications are submitted electronically via Grants.gov and performance reports are submitted electronically through NOAA Grants Online. Performance measurement data is submitted through an online database. Methods of submittal for other program documents and required materials include electronic submittal via email, mail and facsimile transmission of paper forms, or submittal of electronic files on compact disc.

III. Data

OMB Control Number: 0648-0119.

Form Number: None.

Type of Review: Regular submission (revision and extension of a current information collection).

Affected Public: State. Local and Tribal Governments.

Estimated Number of Respondents: 34.

Estimated Time per Response: Performance reports, 27 hours; assessment and strategy documents, 240 hours; Section 306a documentation, 5 hours; amendments and routine program changes, 16 hours; CNP documentation, 320 hours; CZMA Performance Management System, 24 hours.

Estimated Total Annual Burden Hours: 6,133 hours.

Estimated Total Annual Cost to Public: $850 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 21, 2015.
Sarah Brabson,
NOAA PRA Clearance Officer.

[FR Doc. 2015-24287 Filed 9-23-15; 8:45 am]

BILLING CODE 3510-08-P